DEPARTMENT OF TRANSPORTATION

Federal Aviation Administration

Twelfth Meeting—Special Committee 215—Aeronautical Mobile Satellite (Route) Services, Next Generation Satellite Services and Equipment

AGENCY: Federal Aviation Administration (FAA), DOT.

ACTION: Notice of RTCA Special Committee 215, Aeronautical Mobile Satellite (Route) Services, Next Generation Satellite Services and Equipment.

SUMMARY: The FAA is issuing this notice to advise the public of a meeting of RTCA Special Committee 215, Aeronautical Mobile Satellite (Route) Services, Next Generation Satellite Services and Equipment.

DATES: The meeting will be held February 17, 2009, 9 a.m. to 5 p.m. and February 18, 2009, 9 a.m. to 12 noon.

ADDRESSES: RTCA Headquarters, 1828 L Street, NW., Washington, DC 20036; USA, Tel: + 1 202 833-9339, Fax: + 1 202 833-9434, http://www.rtca.org.

FOR FURTHER INFORMATION CONTACT: RTCA Secretariat, 1828 L Street, NW., Suite 805, Washington, DC 20036; telephone (202) 833-9339; fax (202) 833-9434; Web site http://www.rtca.org for directions. For additional details contact: Kelly O'Keefe, Tel: + 1 202 772-1873, e-mail: Kelly@accesspartnership.com.

Note: Dress is business casual.

SUPPLEMENTARY INFORMATION: Pursuant to section 10(a)(2) of the Federal Advisory Committee Act (Pub. L. 92-463, 5 U.S.C., Appendix 2), notice is hereby given for a Special Committee 215 meeting. The agenda will include:

February 17 (continued February 18 as necessary)

• Opening Plenary Session (Greetings, Introductions, Administrative Remarks).

• Review and Approval of Agenda for 12th Plenary.

• Review and Approval of 11th Meeting Summary (RTCA Paper No. 004-09/SC215-038).

• DO-262 Normative Appendix.

• Program Management Committee (PMC) Approval of Final Draft.

• DO-270 Normative Appendix.

• Review and Resolution of Final Review and Comment (FRAC) responses.

• Approval of DO-270 Normative Appendix for submission to PMC.

• Closing Plenary (Any Other Business, Review of Next Plenary Meeting Dates (if required), Adjourn).

Attendance is open to the interested public but limited to space availability. With the approval of the chairmen, members of the public may present oral statements at the meeting. Persons wishing to present statements or obtain information should contact the person listed in the FOR FURTHER INFORMATION CONTACT section. Members of the public may present a written statement to the committee at any time.

Issued in Washington, DC, on January 13, 2009.
Francisco Estrada C.,
RTCA Advisory Committee.

[FR Doc. E9-1342 Filed 1-22-09; 8:45 am]

BILLING CODE 4910-13-P